DEPARTMENT OF THE INTERIOR

National Park Service

[NPS-WASO-NAGPRA-NPS0035668; PPWOCRADN0-PCU00RP14.R50000]

Notice of Inventory Completion: Pioneer Museum, Blue Licks Battlefield State Resort, Kentucky Department of Parks, Carlisle, KY

AGENCY: National Park Service, Interior.

ACTION: Notice.

SUMMARY: In accordance with the Native American Graves Protection and Repatriation Act (NAGPRA), the Pioneer Museum, Blue Licks Battlefield State Resort Park, Kentucky Department of Parks has completed an inventory of human remains and has determined that there is no cultural affiliation between the human remains and any Indian Tribe. The human remains were removed from Franklin County, KY.

DATES: Disposition of the human remains in this notice may occur on or after May 17, 2023.

ADDRESSES: Jennifer Spence, Parks Museum Curator, Kentucky Department of Parks, 500 Mero Street, 5th Floor, Frankfort, KY 40601, telephone (502) 892-3339, email Jennifer.spence@ky.gov.

SUPPLEMENTARY INFORMATION: This notice is published as part of the National Park Service's administrative responsibilities under NAGPRA. The determinations in this notice are the sole responsibility of the Kentucky Department of Parks. The National Park Service is not responsible for the determinations in this notice. Additional information on the determinations in this notice, including the results of consultation, can be found in the inventory or related records held by the Kentucky Department of Parks.

Description

Human remains representing, at minimum, three individuals were removed from Franklin County, KY. The human remains were collected from an unknown site in Franklin County, KY, sometime between May 29 and May 31, 1966, based on a handwritten note found with the human remains during an inventory project at the Pioneer Museum in January of 2021. No known individuals were identified. No associated funerary objects are present.

Aboriginal Land

The human remains in this notice were removed from known geographic locations. These locations are the aboriginal lands of one or more Indian Tribes. The following information was used to identify the aboriginal land: a treaty.

Determinations

Pursuant to NAGPRA and its implementing regulations, and after consultation with the appropriate Indian Tribes, the Kentucky Department of Parks has determined that:

• The human remains described in this notice represent the physical remains of three individuals of Native American ancestry.

• No relationship of shared group identity can be reasonably traced between the human remains and any Indian Tribe.

• The human remains described in this notice were removed from the aboriginal land of the Absentee-Shawnee Tribe of Indians of Oklahoma; Cherokee Nation; Eastern Band of Cherokee Indians; Eastern Shawnee Tribe of Oklahoma; Shawnee Tribe; The Osage Nation; and the United Keetoowah Band of Cherokee Indians in Oklahoma.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and described in this notice to a requestor may occur on or after May 17, 2023. If competing requests for disposition are received, the Kentucky Department of Parks must determine the most appropriate requestor prior to disposition. Requests for joint disposition of the human remains are considered a single request and not competing requests. The Kentucky Department of Parks is responsible for sending a copy of this notice to the Indian Tribes identified in this notice.

Authority: Native American Graves Protection and Repatriation Act, 25 U.S.C. 3003, and the implementing regulations, 43 CFR 10.9 and 10.11.

Dated: April 5, 2023.
Melanie O'Brien,
Manager, National NAGPRA Program.

[FR Doc. 2023-08057 Filed 4-14-23; 8:45 am]

BILLING CODE 4312-52-P